FARM CREDIT SYSTEM INSURANCE CORPORATION

Farm Credit System Insurance Corporation Board; Regular Meeting

SUMMARY: Notice is hereby given of the regular meeting of the Farm Credit System Insurance Corporation Board (Board).

DATE AND TIME: The meeting of the Board will be held at the offices of the Farm Credit Administration in McLean, Virginia, on September 8, 2011, from 1 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Closed Session

• FCSIC Report on System Performance

Open Session

A. Approval of Minutes

• June 21, 2011

B. Business Reports

• FCSIC Quarterly Financial Reports

• Report on Insured and Other Obligations

• Quarterly Report on Annual Performance Plan

C. New Business

• Annual Performance Plan FY 2012-2013

• Proposed 2012 and 2013 Budgets

• Insurance Fund Progress Review and Setting of Premium Range Guidance for 2012

Date: September 2, 2011.
Mary Alice Donner,
Acting Secretary, Farm Credit System Insurance Corporation Board.

[FR Doc. 2011-23039 Filed 9-8-11; 8:45 am]

BILLING CODE 6710-01-P